DEPARTMENT OF DEFENSE

Office of the Secretary

[Transmittal Nos. 12-07]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-07 with attached transmittal and policy justification.

Dated: July 30, 2012.
Aaron Siegel,
Alternate OSD Federal Register Liaison Officer, Department of Defense.

BILLING CODE 5001-06-P

BILLING CODE 5001-06-C

Transmittal No. 12-07

Notice of Proposed Issuance of Letter of Offer Pursuant to Section 36(b)(1) of the Arms Export Control Act, as amended

(i) Prospective Purchaser: Lebanon

(ii) Total Estimated Value:

Major Defense Equipment * | $ 0 million
Other | $63 million
TOTAL | $63 million

(iii) Description and Quantity or Quantities of Articles or Services under Consideration for Purchase: 6 Huey II helicopters spare and repair parts, maintenance, support equipment, publications and technical documentation, personnel training and training equipment, repair and return, U.S. Government and contractor engineering and logistics support services, and other related elements of logistics support.

(iv) Military Department: Army (WBL)

(v) Prior Related Cases, if any: None

(vi) Sales Commission, Fee, etc., Paid, Offered, or Agreed to be Paid: None

(vii) Sensitivity of Technology Contained in the Defense Article or Defense Services Proposed to be Sold: None.

(viii) Date Report Delivered to Congress: 20 July 2012

* as defined in Section 47(6) of the Arms Export Control Act.

POLICY JUSTIFICATION

Lebanon—Huey II helicopters

The Government of Lebanon has requested a possible sale of 6 Huey II helicopters, spare and repair parts, maintenance, support equipment, publications and technical documentation, personnel training and training equipment, repair and return, U.S. Government and contractor engineering and logistics support services, and other related elements of logistics support. The estimated cost is $63 million.

This proposed sale serves U.S. national, economic, and security interests by providing Lebanon with necessary mobility capabilities to maintain internal security, enforce United Nation's Security Council Resolutions 1559 and 1701, and counter terrorist threats.

The proposed sale of these aircraft will enable Lebanon to meet present and future challenges posed by internal and border security threats, evacuations, search and rescue, and drug interdiction operations. The Huey II will augment Lebanon's aging fleet of UH-1H aircraft.

The proposed sale of these vehicles and support will not alter the basic military balance in the region.

The prime contractor will be Bell Helicopter in Fort Worth, Texas. There are no known offset agreements proposed in connection with this potential sale.

Implementation of this proposed sale will not require the assignment of any additional U.S. Government or contractor representatives to Lebanon.

There will be no adverse impact on U.S. defense readiness as a result of this proposed sale.

[FR Doc. 2012-18959 Filed 8-2-12; 8:45 am]

BILLING CODE 5001-06-P